DEPARTMENT OF ENERGY

Federal Energy Regulatory Commission

[Project No. 13848-000]

Qualified Hydro 27, LLC; Notice of Preliminary Permit Application Accepted for Filing and Soliciting Comments, Motions To Intervene, and Competing Applications

November 19, 2010.

On September 30, 2010, Qualified Hydro 27, LLC filed an application for a preliminary permit, pursuant to section 4(f) of the Federal Power Act (FPA), proposing to study the feasibility of the Howard A. Hanson Dam Hydroelectric Project (Howard A. Hanson project) to be located in King County, Washington, near the town of Palmer. The sole purpose of a preliminary permit, if issued, is to grant the permit holder priority to file a license application during the permit term. A preliminary permit does not authorize the permit holder to perform any land-disturbing activities or otherwise enter upon lands or waters owned by others without the owners' express permission.

The proposed project will consist of the following: (1) The existing 675-foot-long, 235-foot-high earth and rockfill Howard A. Hanson dam; (2) the existing Howard A. Hanson reservoir, which has a maximum usable storage of 106,000 acre-feet between elevation 1,206 feet above mean sea level (msl) and elevation 1,035 feet msl; (3) an 800-foot-long steel liner, placed within the existing outlet tunnel, bifurcated above the existing discharge outlet; (4) a 200-foot-long, 10-foot-diameter steel penstock leading from the right branch of the bifurcation to the powerhouse; (5) a 40-foot-long, 80-foot-wide reinforced concrete powerhouse containing one 2-megawatt (MW) and one 3-MW Francis-type turbine; (6) a substation adjacent to the powerhouse; (7) a 1,000-foot-long, 69-kilovolt (kV) transmission line that will interconnect with the local utility; and (8) appurtenant facilities. The estimated annual generation of the Howard A. Hanson project would be 14 gigawatt-hours.

Applicant Contact: Ramya Swaminathan, Qualified Hydro 27, LLC, 33 Commercial Street, Gloucester, MA 01930; phone: (978) 283-2822.

FERC Contact: Kelly Wolcott, (202) 502-6480.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-13848-000) in the docket number field to access the document. For assistance, contact FERC Online Support.

Kimberly D. Bose,
Secretary.

[FR Doc. 2010-29858 Filed 11-26-10; 8:45 am]

BILLING CODE 6717-01-P